NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of an addition to the agenda of a session of the board meeting on November 19, 2015, as shown below. The original notice appeared in the Federal Register on November 13, 2015 at 80 FR 70259.

Original Agenda

Plenary Board Meeting

Open Session: 1:55-2:10 p.m.

• NSB Chair's opening remarks

• NSF Director's remarks

• Approval of plenary open session minutes for August 2015 meeting

• Approval of the 2014 Annual Portfolio Review

• Confirm ad hoc Honorary Awards Committee as a standing committee

• Approval of the 2016 SEI Overview and Digest

• Approval of the OIG Semiannual Report to Congress

• Open committee reports

• NSB Chair's closing remarks

Updated Agenda

Plenary Board Meeting

Open Session: 1:55-2:10 p.m.

• NSB Chair's opening remarks

• NSF Director's remarks

• Approval of plenary open session minutes for August 2015 meeting

• Approval of the 2014 Annual Portfolio Review

• Confirm ad hoc Honorary Awards Committee as a standing committee

• Approval of the 2016 SEI Overview and Digest

• Approval of the OIG Semiannual Report to Congress

• Approval of Proposed Policy Statement and Resolution for Recompetition

• Open committee reports

• NSB Chair's closing remarks

Updates: Please refer to the National Science Board Web site for additional information. Meeting information and schedule updates (time, place, subject matter or status of meeting) may be found at http://www.nsf.gov/nsb/meetings/notices.jsp.

Kyscha Slater-Williams,
Program Specialist, National Science Board.

[FR Doc. 2015-29806 Filed 11-18-15; 4:15 pm]

BILLING CODE 7555-01-P